U.S.-CHINA ECONOMIC AND SECURITY REVIEW COMMISSION

Notice of Open Public Roundtable

AGENCY: U.S.-China Economic and Security Review Commission.

ACTION: Notice of open public roundtable.

SUMMARY: Notice is hereby given of the following roundtable of the U.S.-China Economic and Security Review Commission.

The Commission is mandated by Congress to investigate, assess, and report to Congress annually on “the national security implications of the economic relationship between the United States and the People's Republic of China.” Pursuant to this mandate, the Commission will hold a public roundtable in Washington, DC on April 12, 2018 on “China's Preparations for and Response to North Korea Contingencies.”

DATES: The roundtable is scheduled for Thursday, April 12, 2018 from 9:30 a.m. to 11:30 a.m.

ADDRESSES: TBD, Washington, DC. A detailed agenda for the roundtable will be posted on the Commission's website at www.uscc.gov. Also, please check the Commission's website for possible changes to the roundtable schedule. Reservations are not required to attend the roundtable.

FOR FURTHER INFORMATION CONTACT: Any member of the public seeking further information concerning the roundtable should contact Leslie Tisdale, 444 North Capitol Street NW, Suite 602, Washington, DC 20001; telephone: 202-624-1496, or via email at ltisdale@uscc.gov. Reservations are not required to attend the roundtable.

SUPPLEMENTARY INFORMATION:

Background: This roundtable will examine Chinese views on the likelihood of various potential North Korean contingencies, how China could play a role in the lead-up to or unfolding of such contingencies, and implications for the United States and the region. This roundtable would aim to shed new light on the following: (1) Chinese thinking about potential crises and contingencies involving North Korea; (2) what the People's Liberation Army (PLA) and other stakeholders are doing to prepare for these various scenarios; (3) Chinese diplomatic activities in this area; and (4) geopolitical and security implications for the United States. The roundtable will be co-chaired by Commissioner Jonathan Stivers and Senator James Talent. Any interested party may file a written statement by April 12, 2018, by mailing to the contact above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: March 23, 2018.
Kathleen Wilson,
Finance and Operations Director, U.S.-China Economic and Security, Review Commission.

[FR Doc. 2018-06200 Filed 3-27-18; 8:45 am]

BILLING CODE 1137-00-P